SMALL BUSINESS ADMINISTRATION

[Disaster Declaration #21277 and #21278; ALASKA Disaster Number AK-20015]

Administrative Disaster Declaration of a Rural Area for the Native Village of Kipnuk

AGENCY: U.S. Small Business Administration.

ACTION: Notice.

SUMMARY: This is a notice of an Administrative disaster declaration of a rural area for the Native Village of Kipnuk dated September 8, 2025.

Incident: Severe Storm and Flooding.

DATES: Issued on September 8, 2025.

Incident Period: August 16, 2024 through August 18, 2024.

Physical Loan Application Deadline Date: November 7, 2025.

Economic Injury (EIDL) Loan Application Deadline Date: June 8, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given as a result of the Administrator's disaster declaration of a rural area, applications for disaster loans may be submitted online using the MySBA Loan Portal https://lending.sba.gov or other locally announced locations. Please contact the SBA disaster assistance customer service center by email at dcs@sba.gov or by phone at 1-800-659-2955 for further assistance.

The following area has been determined to be adversely affected by the disaster:

Primary Area: Native Village of Kipnuk.

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 212776 and for economic injury is 212780.

The area which received an Administrative Rural Declaration is the Native Village of Kipnuk.

(Catalog of Federal Domestic Assistance Number 59008)

(Authority: 13 CFR 123.3(b).)

James Stallings,
Associate Administrator.

[FR Doc. 2025-17592 Filed 9-11-25; 8:45 am]

BILLING CODE 8026-09-P